DEPARTMENT OF ENERGY

Federal Energy Regulatory Commission

Combined Notice of Filings #1

July 6, 2009.

Take notice that the Commission received the following electric corporate filings:

Docket Numbers: EC09-86-000.

Applicants: PacifiCorp.

Description: PacifiCorp's Application for Approval of Acquisition of Transmission Line Pursuant to Section 203 of the Federal Power Act.

Filed Date: 07/02/2009.

Accession Number: 20090702-5165.

Comment Date: 5 p.m. Eastern Time on Thursday, July 23, 2009.

Docket Numbers: EC09-87-000.

Applicants: Northwest Wind Partners, LLC.

Description: Application of Northwest Wind Partners, LLC for Authorization for Disposition of Jurisdictional Facilities and Request for Expedited Consideration and Confidential Treatment.

Filed Date: 07/02/2009.

Accession Number: 20090702-5176.

Comment Date: 5 p.m. Eastern Time on Thursday, July 23, 2009.

Docket Numbers: EC09-88-000.

Applicants: RPL Holdings, Inc.

Description: RPL Holdings, Inc., MEG Development Company, LLC, et al. submit Application for Disposition of Jurisdictional Assets and Request for Expedited Consideration.

Filed Date: 07/06/2009.

Accession Number: 20090706-5074.

Comment Date: 5 p.m. Eastern Time on Monday, July 27, 2009.

Docket Numbers: EC09-89-000.

Applicants: MxEnergy Electric Inc.

Description: Application of MxEnergy Electric Inc. for Authorization for Disposition of Jurisdictional Facilities and Request for Expedited Action.

Filed Date: 07/02/2009.

Accession Number: 20090702-5179.

Comment Date: 5 p.m. Eastern Time on Thursday, July 23, 2009.

Take notice that the Commission received the following exempt wholesale generator filings:

Docket Numbers: EG09-67-000.

Applicants: Wilton Wind II, LLC.

Description: Notice of Self Certification of Exempt Wholesale Generator Status of Wilton Wind II, LLC.

Filed Date: 07/01/2009.

Accession Number: 20090701-5082.

Comment Date: 5 p.m. Eastern Time on Wednesday, July 22, 2009.

Docket Numbers: EG09-68-000.

Applicants: Orange Grove Energy, L.P.

Description: Notice of Self-Certification of Orange Grove Energy, L.P., as an Exempt Wholesale Generator.

Filed Date: 07/01/2009.

Accession Number: 20090701-5289.

Comment Date: 5 p.m. Eastern Time on Wednesday, July 22, 2009.

Docket Numbers: EG09-69-000.

Applicants: Elizabethtown Energy, LLC.

Description: Self Certification Notice of Exempt Wholesale Generator Status of Elizabethtown Energy, LLC.

Filed Date: 07/02/2009.

Accession Number: 20090702-5115.

Comment Date: 5 p.m. Eastern Time on Thursday, July 23, 2009.

Docket Numbers: EG09-70-000.

Applicants: Lumberton Energy, LLC.

Description: Self Certification Notice of Exempt Wholesale Generator Status of Lumberton Energy, LLC.

Filed Date: 07/02/2009.

Accession Number: 20090702-5117.

Comment Date: 5 p.m. Eastern Time on Thursday, July 23, 2009.

Docket Numbers: EG09-71-000.

Applicants: Milford Wind Corridor Phase I, LLC.

Description: Notice of Self-Certification of Milford Wind Corridor Phase I, LLC, as an Exempt Wholesale Generator.

Filed Date: 07/02/2009.

Accession Number: 20090702-5127.

Comment Date: 5 p.m. Eastern Time on Thursday, July 23, 2009.

Take notice that the Commission received the following electric rate filings:

Docket Numbers: ER96-780-022; ER01-1633-009; ER00-3240-012; ER03-1383-012.

Applicants: Southern Company Services, Inc.; Southern Company—Florida LLC; Oleander Power Project, L.P.

Description: Southern Companies submits change in status relating to the market-based rate authority.

Filed Date: 06/30/2009.

Accession Number: 20090701-0153.

Comment Date: 5 p.m. Eastern Time on Tuesday, July 21, 2009.

Docket Numbers: ER98-1643-013.

Applicants: Portland General Electric Company.

Description: Amended Notice of Non-Material Change in Status of Portland General Electric.

Filed Date: 06/30/2009.

Accession Number: 20090630-5345.

Comment Date: 5 p.m. Eastern Time on Tuesday, July 21, 2009.

Docket Numbers: ER98-2783-016; ER99-3822-016; ER01-140-012; ER07-842-006; ER09-629-003; ER99-4160-019; ER01-141-012; ER05-1266-010; ER01-1044-013; ER99-2157-013; ER03-42-017.

Applicants: Ontelaunee Power Operating Company, LLC, Dynegy Inc., Casco Bay Energy Company, LLC, Dynegy Power Marketing, Inc., Sithe/Independence Power Partners, L.P., Dynegy Kendall Energy, LLC, Rocky Road Power, LLC, Riverside Generating Company, LLC, Dynegy Roseton, L.L.C., Bridgeport Energy, LLC, Dynegy Marketing and Trade, LLC, Dynegy Danskammer, L.L.C.

Description: Notice of Change in Status of Bridgeport Energy, LLC, et al.

Filed Date: 06/30/2009.

Accession Number: 20090630-5344.

Comment Date: 5 p.m. Eastern Time on Tuesday, July 21, 2009.

Docket Numbers: ER00-1703-007.

Applicants: PPL EnergyPlus, LLC.

Description: PPL EnergyPlus, LLC submits request for a determination of Category 1 status for the Central Region et al.

Filed Date: 06/30/2009.

Accession Number: 20090701-0075.

Comment Date: 5 p.m. Eastern Time on Tuesday, July 21, 2009.

Docket Numbers: ER02-237-014.

Applicants: J. Aron & Company.

Description: J. Aron & Company submits updated market power analysis in compliance with the requirements of section 35.37.

Filed Date: 06/30/2009.

Accession Number: 20090701-0074.

Comment Date: 5 p.m. Eastern Time on Monday, August 31, 2009.

Docket Numbers: ER03-49-006.

Applicants: Calpine Energy Services, L.P., Mankato Energy Center, LLC, Riverside Energy Center, LLC, RockGen Energy, LLC.

Description: Updated Market Power Analysis of Calpine Energy Services, L.P., et al.

Filed Date: 06/30/2009.

Accession Number: 20090630-5235.

Comment Date: 5 p.m. Eastern Time on Monday, August 31, 2009.

Docket Numbers: ER04-318-008.

Applicants: Dominion Energy Kewaunee, Inc.

Description: Dominion Energy Kewaunee, Inc. Market Power Analyses for the Central Region.

Filed Date: 06/30/2009.

Accession Number: 20090630-5233.

Comment Date: 5 p.m. Eastern Time on Monday, August 31, 2009.

Docket Numbers: ER05-1232-019; ER09-355-002; ER07-1117-010.

Applicants: J.P. Morgan Ventures Energy Corporation, BE KJ LLC.

Description: Updated Market Power Analysis and Order Nos. 697 and 697-A Compliance Filing of J.P. Morgan Ventures Energy Corporation, et al.

Filed Date: 06/30/2009.

Accession Number: 20090630-5340.

Comment Date: 5 p.m. Eastern Time on Monday, August 31, 2009.

Docket Numbers: ER06-220-002; ER05-1282-002; ER06-215-002; ER06-221-002; ER06-222-002; ER06-223-002; ER06-224-002; ER06-225-002; ER06-686-002; ER07-1138-001.

Applicants: Bendwind, LLC; Storm Lake Power Partners I LLC; DeGreeffpa, LLC; Sierra Wind, LLC; Groen Wind, LLC; Larswind, LLC; TAIR Windfarm, LLC; Hillcrest Wind, LLC; DeGreeff DP, LLC; Jeffers Wind 20, LLC.

Description: Bendwind, LLC et al. submits a request for Category 1 Seller.

Filed Date: 06/30/2009.

Accession Number: 20090701-0156.

Comment Date: 5 p.m. Eastern Time on Tuesday, July 21, 2009.

Docket Numbers: ER08-912-006; ER09-32-003; ER09-33-003; ER09-279-002; ER09-30-003; ER09-31-003; ER03-296-022; ER07-242-013; ER03-951-022; ER09-282-002; ER02-2085-015; ER09-1284-001; ER05-481-020.

Applicants: Iberdrola Renewables, Inc.; Barton Windpower LLC; Barton Windpower II LLC; Buffalo Ridge I LLC; Elm Creek Wind, LLC; Famers city Wind, LLC; Flying Cloud Power Partners, LLC; MinnDakota Wind LLC; Moraine Wind LLC; Moraine Wind II LLC; Northern Iowa Windpower II LLC; Rugby Wind LLC; Trimont Wind I LLC.

Description: Iberdrola Renewables, Inc. et al. submit its triennial market power analysis.

Filed Date: 06/30/2009.

Accession Number: 20090701-0220.

Comment Date: 5 p.m. Eastern Time on Monday, August 31, 2009.

Docket Numbers: ER09-1364-000.

Applicants: Michigan Power Limited Partnership.

Description: Michigan Power Limited Partnership submits application for acceptance of initial tariff, waivers and blanket authority.

Filed Date: 06/30/2009.

Accession Number: 20090630-0056.

Comment Date: 5 p.m. Eastern Time on Tuesday, July 21, 2009.

Docket Numbers: ER09-1381-000.

Applicants: Allegheny Energy Supply Company, LLC.

Description: Allegheny Energy Supply Company, LLC submits request for authorization to make wholesale power sales to its affiliate, Potomac Edison Company, etc.

Filed Date: 06/30/2009.

Accession Number: 20090701-0057.

Comment Date: 5 p.m. Eastern Time on Tuesday, July 21, 2009.

Docket Numbers: ER09-1382-000.

Applicants: Allegheny Energy Supply Company, LLC.

Description: Allegheny Energy Supply Company, LLC submits request for authorization to make wholesale power sales to its affiliate, West Penn Power Company, etc.

Filed Date: 06/30/2009.

Accession Number: 20090701-0054.

Comment Date: 5 p.m. Eastern Time on Tuesday, July 21, 2009.

Docket Numbers: ER09-1383-000.

Applicants: Consumers Energy Company.

Description: Consumers Energy Company submits notice of cancellation.

Filed Date: 06/30/2009.

Accession Number: 20090701-0055.

Comment Date: 5 p.m. Eastern Time on Tuesday, July 21, 2009.

Docket Numbers: ER09-1385-001.

Applicants: California Independent System Operator Corporation.

Description: California Independent System Operator Corp. submits an errata to the filing of an amendment to non-conforming service agreement.

Filed Date: 07/01/2009.

Accession Number: 20090702-0180.

Comment Date: 5 p.m. Eastern Time on Wednesday, July 22, 2009.

Docket Numbers: ER09-1386-000.

Applicants: Southwest Power Pool, Inc.

Description: Southwest Power Pool, Inc. submits for acceptance an Original Service Agreement 1825 et al. to FERC Electric Tariff, Fifth Revised Volume 1.

Filed Date: 07/01/2009.

Accession Number: 20090701-0219.

Comment Date: 5 p.m. Eastern Time on Wednesday, July 22, 2009.

Docket Numbers: ER09-1387-000.

Applicants: Pacific Gas and Electric Company.

Description: Pacific Gas and Electric Company submits for filing and acceptance of a Transmission Facilities Agreement et al.

Filed Date: 07/01/2009.

Accession Number: 20090701-0221.

Comment Date: 5 p.m. Eastern Time on Wednesday, July 22, 2009.

Docket Numbers: ER09-1388-000.

Applicants: Vermont Transco LLC.

Description: Vermont Transco, LLC submits updated Exhibit A for the 1991 Transmission Agreement, Fourth Revised Sheet 15 to FERC Rate Schedule 1, to be effective 7/1/09.

Filed Date: 07/01/2009.

Accession Number: 20090702-0090.

Comment Date: 5 p.m. Eastern Time on Wednesday, July 22, 2009.

Docket Numbers: ER09-1389-000.

Applicants: Duke Energy Business Services, LLC.

Description: Duke Energy Indiana, Inc. submits their Facilities Agreement with Duke Energy Business Services, LLC et al. designated as FERC Electric Rate Schedule 270, to be effective 9/1/09.

Filed Date: 07/01/2009.

Accession Number: 20090702-0091.

Comment Date: 5 p.m. Eastern Time on Wednesday, July 22, 2009.

Docket Numbers: ER09-1390-000.

Applicants: PJM Interconnection LLC

Description: PJM Interconnection, LLC submits notice of cancellation for a non-conforming Transmission Service Agreement 1494 to FERC Electric Tariff, Sixth Revised Volume 1.

Filed Date: 07/01/2009.

Accession Number: 20090702-0092.

Comment Date: 5 p.m. Eastern Time on Wednesday, July 22, 2009.

Docket Numbers: ER09-1391-000.

Applicants: MidAmerican Energy Company.

Description: MidAmerican Energy Company submits Notice of Cancellation of FERC Electric Rate Schedule 62 which consists of an Interconnection Agreement with Cornbelt Power Cooperative.

Filed Date: 07/01/2009.

Accession Number: 20090702-0093.

Comment Date: 5 p.m. Eastern Time on Wednesday, July 22, 2009.

Docket Numbers: ER09-1392-000.

Applicants: MidAmerican Energy Company.

Description: MidAmerican Energy Company submits Notice of Cancellation of FERC Electric Rate Schedule 67 which consists of an Interchange and Operating Agreement with Cedar Falls Utilities.

Filed Date: 07/01/2009.

Accession Number: 20090702-0094.

Comment Date: 5 p.m. Eastern Time on Wednesday, July 22, 2009.

Docket Numbers: ER09-1393-000.

Applicants: MidAmerican Energy Company.

Description: MidAmerican Energy Company submits a Network Integration Transmission Service Agreement and Network Operating and Interconnection Agreement with City of Pella, Iowa dated 6/30/09.

Filed Date: 07/01/2009.

Accession Number: 20090702-0095.

Comment Date: 5 p.m. Eastern Time on Wednesday, July 22, 2009.

Docket Numbers: ER09-1394-000.

Applicants: New England Power Pool.

Description: New England Power Pool submits Sheet 57 et al., Second Restated NEPOOL Agreement.

Filed Date: 07/01/2009.

Accession Number: 20090702-0096.

Comment Date: 5 p.m. Eastern Time on Wednesday, July 22, 2009.

Docket Numbers: ER09-1395-000.

Applicants: New York Independent System Operator, Inc.

Description: Motion of the New York Independent System Operator, Inc to defer the effective date of certain previously accepted tariff revisions with respect to the installed capacity auctions for May and June 2009.

Filed Date: 07/01/2009.

Accession Number: 20090702-0097.

Comment Date: 5 p.m. Eastern Time on Friday, July 10, 2009.

Docket Numbers: ER09-1396-000.

Applicants: Midwest Independent Transmission System Operator, Inc.

Description: Midwest Independent Transmission System Operator, Inc submits revisions re: Excessive/deficient energy deployment charge.

Filed Date: 07/01/2009.

Accession Number: 20090702-0116.

Comment Date: 5 p.m. Eastern Time on Wednesday, July 22, 2009.

Docket Numbers: ER09-1397-000.

Applicants: Southwest Power Pool, Inc.

Description: Southwest Power Pool, Inc submits a Network Integration Transmission Service Agreement with Kansas Power Pool.

Filed Date: 07/01/2009.

Accession Number: 20090702-0115.

Comment Date: 5 p.m. Eastern Time on Wednesday, July 22, 2009.

Docket Numbers: ER09-1398-000.

Applicants: Southern California Edison Company.

Description: Otter Tail Corp submits a Common Facilities Agreement with Ashtabula Wind II, LLC.

Filed Date: 07/01/2009.

Accession Number: 20090702-0114.

Comment Date: 5 p.m. Eastern Time on Wednesday, July 22, 2009.

Docket Numbers: ER09-1399-000.

Applicants: Public Service Company of New Mexico.

Description: Public Service Co of New Mexico submits Amendment One to Power Sale Agreement.

Filed Date: 07/01/2009.

Accession Number: 20090702-0182.

Comment Date: 5 p.m. Eastern Time on Wednesday, July 22, 2009.

Docket Numbers: ER09-1401-000.

Applicants: Duke Energy Ohio, Inc.

Description: Duke Energy Ohio, Inc submits first Revised Sheet No 1 to its FERC Electric Tariff, First Revised Volume No 2.

Filed Date: 06/30/2009.

Accession Number: 20090701-0056.

Comment Date: 5 p.m. Eastern Time on Tuesday, July 21, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-16754 Filed 7-14-09; 8:45 am]

BILLING CODE 6717-01-P